AGENCY FOR INTERNATIONAL DEVELOPMENT

Board for International Food and Agricultural Development

One Hundred and Thirty Fourth Meeting; Notice of Meeting

Pursuant to the Federal Advisory Committee Act, notice is hereby given of the one hundred and thirty-fourth meeting of the Board for International Food and Agricultural Development (BIFAD). The meeting will be held from 8:30 a.m. to 4:30 p.m. on March 29th, 2001 and from 8:30 a.m. to 1:30 p.m. on March 30th, 2001, in the NASULGC Meeting Room, 1307 New York Avenue, NW, Washington, DC.

The first day will be devoted to a joint session with the CRSPs (Collaborative Research Support Programs—consortia of universities and international research entities devoted to agricultural commodity or theme research). The second day focuses on the future of university-government partnerships on international agriculture, and on visions for BIFAD itself.

Those wishing to attend the meeting to obtain additional information about BIFAD should contact Mr. Lawrence Paulson, the Designated Federal Officer for BIFAD. Write him in care of the U.S. Agency for International Development, Ronald Reagan Building, Office of Agriculture and Food Security, 1300 Pennsylvania Avenue, NW, Room 2.11-073, Washington DC, 20523-2110 or telephone him at (202) 712-1436 or fax (202) 216-3010.

Lawrence Paulson,
USAID Designated Federal Officer for BIFAD, Office of Agriculture and Food Security, Economic, Growth Center, Bureau for Global Programs.

[FR Doc. 01-4988 Filed 2-28-01; 8:45 am]

BILLING CODE 6116-01-M